DEPARTMENT OF DEFENSE

Office of the Secretary

[Transmittal No. 25-1G]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1G.

Dated: January 29, 2026.
Stephanie J. Bost,
Alternate OSD Federal Register Liaison Officer, Department of Defense.

BILLING CODE 6001-FR-P

BILLING CODE 6001-FR-C

Transmittal No. 25-1G

REPORT OF ENHANCEMENT OR UPGRADE OF SENSITIVITY OF TECHNOLOGY OR CAPABILITY (SEC. 36(B)(5)(C), AECA)

(i) Prospective Purchaser: Government of Estonia

(ii) Sec. 36(b)(1), AECA Transmittal No.: 22-35

Date: July 15, 2022

Implementing Agency: Army

Funding Source: National Funds

(iii) Description: On July 15, 2022, Congress was notified by congressional certification transmittal number 22-35, of the possible sale under Section 36(b)(1) of the Arms Export Control Act, of six (6) M142 High Mobility Artillery Rocket System (HIMARS) Launchers; thirty-six (36) M30A2 Guided Multiple Launch Rocket System (GMLRS) Alternative Warhead (AW) Missile Pods with Insensitive Munitions Propulsion System (IMPS) and Frequency Modulated Continuous Wave—Directional Doppler Ranging (FMCW-DDR) Proximity Height-of-Burst (HOB) Sensor Capability; thirty-six (36) M31A2 GMLRS Unitary High Explosive (HE) Missile Pods with IMPS and FMCW-DDR Proximity HOB Sensor Capability; thirty-six (36) XM403 Extended Range GMLRS (ER GMLRS) Alternative Warhead (AW) Missile Pods with IMPS and Side Mounted Proximity Sensor (SMPS) HOB Capability; thirty-six (36) XM404 ER GMLRS Unitary Pods with IMPS and SMPS HOB Capability; and eighteen (18) M57 Army Tactical Missile System (ATACMS) Missile Pods. Also included were M28A2 Low Cost Reduced Range Practice Rocket (LCRRPR) pods; ruggedized laptops; training equipment; publications for HIMARS and munitions/missiles; and other related elements of program and logistics support. The total estimated cost was $500 million. Major Defense Equipment (MDE) constituted $455 million of this total.

This transmittal notifies the inclusion of the following additional MDE items: six (6) M142 High Mobility Artillery Rocket Systems (HIMARS); two hundred fifty (250) M31A2 Guided Multiple Launch Rocket System (GMLRS) Unitary Alternative Warhead (AW), unitary High Explosive missile pods with Insensitive Munition Propulsion System (IMPS) capability; two hundred fifty (250) M30A2 GMLRS AW missile pods with IMPS; two hundred fifty (250) XM403 Extended Range (ER) GMLRS AW missile pods with IMPS and Side Mounted Proximity Sensor (SMPS) Height-of-Burst (HOB) capability; two hundred fifty (250) XM404 ER GMLRS Unitary pods with IMPS and SMPS HOB capability; and two hundred (200) M57 Army Tactical Missile Systems (ATACMS). The following non-MDE items are also included: M282 Low Cost Reduced Range Practice Rocket (LCRRPR) pods; communications equipment; publications for HIMARS and munitions/missiles; and other related elements of program and logistics support. The estimated total value of the new items is $4.23 billion. The estimated non-MDE value will increase by $125 million to a revised $170 million. The estimated total case value will increase by $4.23 billion to a revised $4.73 billion. MDE constitutes $4.56 billion of this total.

(iv) Significance: This notification is being provided as the additional MDE items were not enumerated in the original notification. The inclusion of this MDE represents an increase in capability over what was previously notified. The proposed sale will improve Estonia's capability to meet current and future threats and enhance its interoperability with United States (U.S.) and other allied forces. It will also allow for continued modernization of Estonia's armed forces while expanding capability to strengthen homeland defense and deter regional threats.

(v) Justification: This proposed sale will support the foreign policy and national security objectives of the U.S. by improving the security of a NATO Ally that continues to be an important force for political stability and economic progress in Europe.

(vi) Sensitivity of Technology:

The Sensitivity of Technology statement contained in the original notification applies to items reported here.

The highest level of classification of defense articles, components, and services included in this potential sale is SECRET.

(vii) Date Report Delivered to Congress: September 26, 2025

[FR Doc. 2026-02056 Filed 1-30-26; 8:45 am]

BILLING CODE 6001-FR-P